DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 12, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Rural Cooperative Development Grants—7 CFR 4284-F.

OMB Control Number: 0570-0006.

Summary of Collection: Public Law 115-334, section 310B of the Consolidated Farm and Rural Development Act (as amended), authorizes the Rural Cooperative Development Grants (RCDG) program to be administered by Rural Business-Cooperative Service (RBCS). RBCS must collect information from applicants in order to confirm eligibility for the program and to evaluate the quality of the applications. Additionally, grantees are required to submit reporting and payment request information to facilitate monitoring of the program and disbursement of funds.

Need and Use of the Information: Information is collected by RBCS and Rural Development (RD) State and Area office staff, as delegated, from applicants and grantees. The application information is used to confirm that the applicant and use of funds meet the eligibility requirements for the program as well as to assess the quality of the proposed project. The grantees are required to submit financial status and performance reports to confirm funds are being expended as approved and requests for advance or reimbursement to request payment.

Description of Respondents: Not for profit institutions.

Number of Respondents: 41.

Frequency of Responses: Record keeping; Reporting: On occasion.

Total Burden Hours: 7,449.

Levi S. Harrell,
Departmental Information Collection Clearance Officer.

[FR Doc. 2024-10371 Filed 5-10-24; 8:45 am]

BILLING CODE 3410-XY-P